DEPARTMENT OF AGRICULTURE

Agricultural Marketing Service

[FV-04-337]

Request for New Information Collection

AGENCY: Agricultural Marketing Service, USDA.

ACTION: Notice and request for comment.

SUMMARY: In accordance with the Paperwork Reduction Act of 1995 (44 U.S.C. Chapter 35), this notice announces the Agricultural Marketing Service's (AMS's) intention to request approval for the “Qualified Through Verification” Program (QTV) information collection.

DATES: Comments may be submitted on or before June 21, 2004.

ADDRESSES: Submit comments to: Branch Chief, Processed Products Branch, Fruit and Vegetable Programs, Agricultural Marketing Service, U.S. Department of Agriculture, STOP 0247, 1400 Independence Avenue SW., Washington, DC 20250-0247; fax (202) 690-1527.

FOR FURTHER INFORMATION CONTACT: Contact Mr. Terry B. Bane at the same address and fax number above, or e-mail terry.bane@usda.gov.

SUPPLEMENTARY INFORMATION: QTV is a voluntary HACCP-based program serving only the fresh-cut fruit and vegetable processing industry. The regulations in 7 CFR Part 52 provide for voluntary facility assessment programs that are paid for entirely by the user (user-fee) to verify their ability to produce wholesome food. QTV does not relieve participants from enforcement by the FDA or from under other applicable programs.

USDA published in the Federal Register on September 4, 1998 (63 FR 47220) a notice regarding the QTV program and asked for public comment. The comment period closed November 3, 1998. AMS received 28 comments from a wide range of sources, including trade associations, academia, members of Congress, state and local government agencies, and manufacturers.

Comments received addressed both implementation of the program as well as technical details of the program's operation. The majority of the recommendations raised by the comments were incorporated into the program.

Title: “Qualified Through Verification” Program (QTV).

OMB Number: 0581-XXXX.

Expiration Date of Approval: 3 years from the date of OMB approval.

Type of Request: New collection.

Abstract: The Agricultural Marketing Act of 1946 (7 U.S.C. 1621- et seq.) (AMA) directs and authorizes the Department of Agriculture (USDA) to develop standards of quality, grades, grading programs, and voluntary services under the regulations, e.g., contract and specification acceptance services, facility assessment services and certifications of quantity and quality.

To provide programs and services, section 203(h) of the AMA directs and authorizes the Secretary of Agriculture to provide contract and specification acceptance services, facility assessment and other services under such rules and regulations as the Secretary may prescribe, including assessment and collection of fees for the cost of the service.

The QTV program is a voluntary program. Respondents need to request the service in writing, providing their processing information. In accordance with the AMA, the Agency will examine and verify the provided information and based on the information collected, assess and collect a fee from the respondent for the cost of the service. The information is collected to carry out the intent of the AMA, and is used only to provide the respondents the service they have requested, and to administer the program. This information is used only by authorized representatives of the USDA (AMS, Fruit and Vegetable Programs' national staff; regional directors and their staffs; Area Officers-in Charge and their staffs; and resident Federal graders).

The participant's use of appropriate automated, electronic or mechanical information collection methods is based on established industry standards and the sophistication of the processor's systems.

Affected public may include any partnership, association, business trust, corporation, organized group, and State, County or Municipal government, and any authorized agent that has a financial interest in the commodity involved.

Following the QTV program procedures, the respondent must provide processing information in writing to request service.

Estimate of Burden: Public reporting burden for this collection of information is estimated to average 0.68 hours per response.

Respondents: Applicants who are applying to participate in the Qualified Through Verification (QTV) Program.

Estimated Number of Respondents: 20.

Estimated Number of Responses per Respondent: 469.

Estimated Total Annual Burden on Respondents: 6,372.

Comments are invited on: (1) Whether the proposed collection of information is necessary for the proper performance of the functions of the agency, including whether the information will have practical utility; (2) the accuracy of the agency's estimate of the burden of the proposed collection of information including the validity of the methodology and assumptions used; (3) ways to enhance the quality, utility, and clarity of the information to be collected; and (4) ways to minimize the burden of the collection of information on those who are to respond, including the use of appropriate automated, electronic, mechanical, or other technological collection techniques or other forms of information technology. Comments may be sent to Mr. Terry B. Bane, Processed Products Branch, Fruit and Vegetable Programs, Agricultural Marketing Service, U.S. Department of Agriculture, STOP 0247, 1400 Independence Ave. SW., Washington, DC 20250-0247; faxed to (202) 690-1087; or e-mailed to terry.bane@usda.gov.

All comments received will be available for public inspection during regular business hours at the same address. All responses to this notice will be summarized and included in the request for OMB approval. All comments will become a matter of public record.

Authority: 7 U.S.C. 1621-1627.

Dated: April 19, 2004.
A.J. Yates,
Administrator, Agricultural Marketing Service.

[FR Doc. 04-9158 Filed 4-21-04; 8:45 am]

BILLING CODE 3410-02-P